DEPARTMENT OF DEFENSE

Department of the Air Force

[AFIT PLA 2025-01]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license to Intuiscan ATC Technologies, LLC, a corporation of the state of Ohio having a place of business at 71 Lochinvar Ct., Xenia, OH 45385.

DATES: Written objections must be filed no later than fifteen (15) calendar days after the date of publication of this Notice.

ADDRESSES: Submit written objections to Karleine M. Justice, AFIT Office of Research and Technology Applications (ORTA), 2950 Hobson Way, Bldg. 641, Rm. 101C, Wright-Patterson AFB, OH 45433-7765; Phone: (937) 656-0754; or Email: karleine.justice.1@us.af.mil. Include Docket No. AFIT PLA 2025-01 in the subject line of the message.

FOR FURTHER INFORMATION CONTACT: Karleine M. Justice, AFIT Office of Research and Technology Applications (ORTA), 2950 Hobson Way, Bldg. 641, Rm. 101C, Wright-Patterson AFB, OH 45433-7765; Phone: (937) 656-0754; or Email: karleine.justice.1@us.af.mil.

SUPPLEMENTARY INFORMATION:

Abstract of Patent Application(s)

An apparatus and method of presenting air traffic data to an air traffic controller are provided. Air traffic data including a two-dimensional spatial location and altitude for a plurality of aircraft is received. A disparity value is determined based on the altitude for each aircraft of the plurality of aircraft. Left and right eye images are generated of the plurality of aircraft where at least one of the left and right eye images is based on the determined disparity value. The left and right eye images are simultaneously displayed to the air traffic controller on a display. The simultaneously displayed images provide an apparent three-dimensional separation of each of the aircraft of the plurality of aircraft on the display.

Intellectual Property

U.S. Patent No. 9,667,947 B2, issued on May 30, 2017, and entitled “Stereoscopic 3-D Presentation for Air Traffic Control Digital Radar Displays.”

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

(Authority: 35 U.S.C. 209; 37 CFR 404.)

Tommy W. Lee,
Acting Air Force Federal Register Liaison Officer.

[FR Doc. 2025-13986 Filed 7-23-25; 8:45 am]

BILLING CODE 3911-44-P